DEPARTMENT OF COMMERCE

National Oceanic and Atmospheric Administration

RIN: 0648-XK94

Gulf of Mexico Fishery Management Council; Public Meetings

AGENCY: National Marine Fisheries Service (NMFS), National Oceanic and Atmospheric Administration (NOAA), Commerce.

ACTION: Notice of public meetings.

SUMMARY: The Gulf of Mexico Fishery Management Council will convene public meetings.

DATES: The meetings will be held October 27-30, 2008.

ADDRESSES: The meetings will be held at the Renaissance Riverview Plaza, 64 S. Water St., Mobile, AL 36602.

Council address: Gulf of Mexico Fishery Management Council, 2203 North Lois Avenue, Suite 1100, Tampa, FL 33607.

FOR FURTHER INFORMATION CONTACT: Richard Leard, Interim Executive Director, Gulf of Mexico Fishery Management Council; telephone: (813) 348-1630.

SUPPLEMENTARY INFORMATION:

Council

Wednesday, October 29, 2008

1 p.m. - The Council meeting will begin with a review of the agenda and minutes.

From 1:15 p.m. - 1:30 p.m., the Council will approve the 2009 Committee Rosters.

From 1:30 p.m. - 3:30 p.m., the Council will receive public testimony on exempted fishing permits (EFPs), if any; the Final Aquaculture Fishery Management Plan (FMP); and hold an Open Public Comment Period regarding any fishery issue of concern. People wishing to speak before the Council should complete a public comment card prior to the comment period.

From 3:30 p.m. - 5:30 p.m., the Council will review and discuss reports from the previous two days' committee meetings as follows: Joint Reef Fish/Mackerel/Red Drum, Ad Hoc Allocation, and Reef Fish Management.

The following will be, in part, CLOSED SESSIONS - Joint Scientific and Statistical Committee (SSC) Selection/Administrative Policy and Budget/Personnel.

Thursday, October 30, 2008

From 8:30 a.m. - 10:30 a.m., the Council will continue to review and discuss reports from the committee meetings as follows: Joint SSC Selection/Administrative Policy; Budget/Personnel; Operator Permits; Law Enforcement; Outreach & Education (O&E); Habitat Protection; Migratory Species; and Marine Reserves.

From 10:30 a.m. - 11 a.m., the Council will receive a report from the SSC of its Review of the 5-year Research Plan.

From 11 a.m. - 12 p.m., other business items will follow. The Council will conclude its meeting at approximately 12 p.m.

Committees

Monday, October 27, 2008

1 p.m. - 3 p.m. - The Ad Hoc Allocation Committee will meet to discuss Draft Allocation Principles.

3 p.m. - 4 p.m. - The Operator Permits Committee will meet to discuss a Draft Scoping Document for Generic Operator Permit Amendment.

4 p.m. - 4:30 p.m. - The Law Enforcement Committee will meet to discuss the 2009-12 Strategic Plan and the 2009-10 Operations Plan.

4:30 p.m. - 5 p.m. - The Outreach and Education Committee will meet to discuss proposed agenda for the O&E Advisory Panel (AP) Meeting.

5 p.m. - 7 p.m. - There will be an Open Public Question and Answer Session and Public Hearing on the Aquaculture FMP.

Tuesday, October 28, 2008

8:30 a.m. - 11 a.m. - The Reef Fish Management Committee will meet to discuss the Ad Hoc Recreational Red Snapper AP Recommendations, review an Update on Endangered Species Act (ESA) Biological Opinion on sea turtle bycatch, consider red snapper recreational seasons and establishing a Vessel Monitoring System AP.

11 a.m. - 12 p.m. - The Budget/Personnel Committee will meet to discuss the status of 2008 budget; FY 2009 budget; and will have a CLOSED SESSION to discuss the Executive Director search status.

1:30 p.m. - 3:30 p.m. - The Joint Reef Fish/Mackerel/Red Drum Management Committee will meet to discuss the Final Aquaculture FMP.

3:30 p.m. - 5 p.m. - The Joint SSC Selection Committee/Administrative Policy Committee will meet to Review the SSC's role and appointment process and in a CLOSED SESSION review the SSC membership.

Wednesday, October 29, 2008

8:30 a.m. - 9:30 a.m. - The Migratory Species Committee will receive a presentation on Amendment 3 to the HMS FMP (Small Coastal Sharks) and Amendment 4 to the Highly Migratory Species (HMS) FMP (Caribbean Issues).

9:30 a.m. - 10:30 a.m. - The Marine Reserves Committee will receive a presentation on marine protected area (MPA) Framework and Proposed Nomination Process and may comment on an advanced notice of proposed rule (ANPR) for consultations under the National Marine Sanctuaries Act (NMSA).

10:30 a.m. - 11:30 a.m. - The Habitat Protection Committee will receive a presentation on Amendment 1 to the HMS EFH FMP.

Although other non-emergency issues not on the agendas may come before the Council and Committees for discussion, in accordance with the Magnuson-Stevens Fishery Conservation and Management Act (Magnuson-Stevens Act), those issues may not be the subject of formal action during these meetings. Actions of the Council and Committees will be restricted to those issues specifically identified in the agendas and any issues arising after publication of this notice that require emergency action under Section 305(c) of the Magnuson-Stevens Act, provided the public has been notified of the Council's intent to take action to address the emergency. The established times for addressing items on the agenda may be adjusted as necessary to accommodate the timely completion of discussion relevant to the agenda items. In order to further allow for such adjustments and completion of all items on the agenda, the meeting may be extended from, or completed prior to the date established in this notice.

Special Accommodations

These meetings are physically accessible to people with disabilities. Requests for sign language interpretation or other auxiliary aids should be directed to Tina O'Hern at the Council (see ADDRESSES) at least 5 working days prior to the meeting.

Dated: October 2, 2008.
Tracey L. Thompson,
Acting Director, Office of Sustainable Fisheries, National Marine Fisheries Service.

[FR Doc. E8-23627 Filed 10-6-08; 8:45 am]

BILLING CODE 3510-22-S